CONSUMER PRODUCT SAFETY COMMISSION

[Docket No. CPSC-2010-0088]

Agency Information Collection Activities; Submission for Office of Management and Budget Review; Comment Request; Durable Nursery Products Exposure Survey

AGENCY: Consumer Product Safety Commission.

ACTION: Notice.

SUMMARY: The U.S. Consumer Product Safety Commission (“CPSC” or “Commission”) is announcing that a proposed collection of information has been submitted to the Office of Management and Budget (“OMB”) for review and clearance under the Paperwork Reduction Act of 1995.

DATES: Fax written comments on the collection of information by May 11, 2011.

ADDRESSES: To ensure that comments on the information collection are received, OMB recommends that written comments be faxed to the Office of Information and Regulatory Affairs, OMB, Attn: CPSC Desk Officer, FAX: 202-395-6974, or emailed to oira_submission@omb.eop.gov. All comments should be identified by Docket No. CPSC-2010-0088. In addition, written comments also should be submitted in http://www.regulations.gov under Docket No. CPSC-2010-0088, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov. A copy of the draft survey is available at http://www.regulations.gov under Docket No. CPSC-2010-0088, Supporting and Related Materials.

FOR FURTHER INFORMATION CONTACT: Linda Glatz, Division of Policy and Planning, Office of Information Technology, Consumer Product Safety Commission, 4330 East West Highway, Bethesda, MD 20814, 301-504-7671, lglatz@cpsc.gov.

SUPPLEMENTARY INFORMATION: In compliance with 44 U.S.C. 3507, the CPSC has submitted the following proposed collection of information to OMB for review and clearance: Durable Nursery Products Exposure Survey.

On August 14, 2008, the Consumer Product Safety Improvement Act (“CPSIA”) (Pub. L. 110-314) was enacted. Section 104 of the CPSIA (referred to as the “the Danny Keysar Child Product Safety Notification Act”) (15 U.S.C. 2056a), requires the Commission to study and develop safety standards for infant and toddler products. Such durable infant and toddler products include, but are not limited to: Full-size cribs and nonfull-size cribs; toddler beds; high chairs, booster chairs, and hook-on chairs; bath seats; gates and other enclosures for confining a child; play yards; stationary activity centers; infant carriers; strollers; walkers; swings; and bassinets and cradles. The Commission is required to evaluate the currently existing voluntary standards for durable infant or toddler products and promulgate a mandatory standard substantially the same as, or more stringent than, the applicable voluntary standard.

In evaluating the current voluntary standards, CPSC staff requires certain additional data to assess the potential future impacts of the CPSIA mandatory efforts on durable infant and toddler products. The draft Durable Nursery Products Exposure Survey (“DNPES” or “survey”) is a national probability sample of households with children five years old and younger, designed to determine the prevalence of durable infant and toddler product ownership in households, as well as the frequency and manner of use of such products. In particular, the survey will seek information regarding ownership characteristics; the life cycle of the products; and consumer behaviors and perceptions regarding such products. The survey will gather information on the characteristics and usage patterns of 24 categories of durable infant or toddler products and solicit information on accidents or injuries associated with those products. The information collected from the DNPES will help inform the Commission's evaluation of consumer products and product use, by providing insight and information into consumer perceptions and usage patterns. In addition to assisting the Commission's rulemaking efforts, such information will also support ongoing voluntary standards activities in which the Commission participates, compliance and enforcement efforts, as well as information and education campaigns. The data also will help identify consumer safety issues that need additional research. Understanding better how these products are used by consumers will help the Commission address potential hazards and assess the sufficiency of current voluntary standards.

A small group of respondents (37) from different backgrounds (including both English and Spanish speakers) were asked to participate in cognitive testing (for the telephone survey) or usability testing (for the Web version of the survey) to provide extensive feedback regarding the clarity of specific questions. Results of the cognitive and usability testing were used to revise the survey instruments, but will not be included in the survey results for the main data collection. A mail paper screener will be sent to 16,667 families to determine whether sampled respondents are eligible for full DNPES participation. Eligible respondents who have children ages 0 to 5 years in their household will have Web- and computer-assisted telephone interviewing (“CATI”) survey options for completing the full extended DNPES. The DNPES will include approximately 24 categories with questions about different infant or toddler products, but each respondent will be limited to a maximum of three categories. The CATI and Web programs will also ensure that each respondent's questions are limited to the portions of the survey for which they have been selected.

In the Federal Register of August 19, 2010 (75 FR 51245), the CPSC published a 60-day notice requesting public comment on the proposed collection of information. No comments were received. However, CPSC staff, on its own initiative, modified the burden hours to reflect more accurately the estimated burden of the collection of information based on feedback received from respondents of the cognitive and usability tests.

Each cognitive interview or usability test takes approximately one hour, for an estimated total of 37 burden hours. The initial mail paper screener for the main data collection will be sent to approximately 16,667 households and will take approximately five minutes (.083333 hours) to complete. An estimated 2,000 eligible respondents will be selected for telephone extended interviews (1,500 respondents) or Web surveys (500 respondents). Each interview or survey will take approximately 35 minutes (.583333 hours) to complete. Although the staff initially contemplated approximately 30 minutes per interview or survey, and four product categories per respondent, that number was revised to 35 minutes per interview or survey, with a three product limit per respondent, based on responses to the cognitive testing and usability testing. The total estimated burden for all respondents is 2,592.6 hours, rounded up to 2,593 hours (167 hours more than the 2,426 hours previously proposed). The total cost to the respondents for the total burden is estimated to be $71,659 ($5,138 more than the $66,521 previously proposed), based on an hourly rate of $27.42 (all workers in private industry in Table 9 of the June 2010 Employer Costs for Employee Compensation, Bureau of Labor Statistics (“BLS”)). The hourly rate data has been updated to correspond with the most recently available BLS data.

The estimated cost to the federal government is $1,026,763. Since the study extends over three years, however, the estimated annualized cost of the information collection requirements to the government is $342,254.33, rounded down to $342,254, for the three-year period. This sum includes contractors to implement and conduct the DNPES survey ($729,093), 21 staff months ($297,670) at an average level of GS-14 step 5 (($119,238/.701) ÷ 12 months) × 21 months), using a 70.1 percent ratio of wages and salary to total compensation from Table 1 of the June 2010 Employer Costs for Employee Compensation, published by the Bureau of Labor Statistics.

Dated: April 6, 2011.
Todd A. Stevenson,
Secretary, Consumer Product Safety Commission.

[FR Doc. 2011-8514 Filed 4-8-11; 8:45 am]

BILLING CODE 6355-01-P